ENVIRONMENTAL PROTECTION AGENCY

[EPA-HQ-OPP-2023-0643; FRL-11635-01-OCSPP]

Pesticides; Request for Stakeholder Input on the Proposed Design of Assistance Agreements for a National Farmworker Training and Education Program; Notice of Availability and Opportunity for Comment

AGENCY: Environmental Protection Agency (EPA).

ACTION: Notice.

SUMMARY: EPA is announcing the availability of a Request for Information (RFI) that seeks public comment to inform the design of its National Farmworker Training and Education Program (NFTEP). The NFTEP will be a series of assistance agreements to conduct pesticide safety trainings for farmworkers and farmworker communities, create pesticide safety educational and training materials, and develop innovative outreach and delivery strategies. The Pesticide Registration Improvement Act of 2022 (PRIA 5) included set-asides of up to $7.5 million in total for fiscal years 2023-2027 to fund the NFTEP. PRIA 5 also requires EPA to seek input from persons who conduct farmworker education and training to inform the program's Notices of Funding Opportunities (NOFOs), formerly called Requests for Applications (RFAs). EPA has previously solicited input on its PRIA-funded worker protection activities, including cooperative agreements, through the Pesticide Program Dialogue Committee (PPDC), which includes representatives of farmworker-serving organizations.

DATES: Submit your comments on or before March 25, 2024.

ADDRESSES: Submit your comments, identified by docket identification (ID) number EPA-HQ-OPP-2023-0643, through the Federal eRulemaking Portal at https://www.regulations.gov. Follow the online instructions for submitting comments. Do not submit electronically any information you consider to be Confidential Business Information (CBI) or other information whose disclosure is restricted by statute. Additional instructions on commenting or visiting the docket, along with more information about dockets generally, is available at https://www.epa.gov/dockets.

FOR FURTHER INFORMATION CONTACT: Isabel Gross, Office of Chemical Safety and Pollution Prevention, Pesticide Re-evaluation Division (7508M), Environmental Protection Agency, 1200 Pennsylvania Ave. NW, Washington, DC 20460-0001; telephone number: (202) 566-1741; email address: gross.isabel@epa.gov.

SUPPLEMENTARY INFORMATION:

I. Executive Summary

A. Does this action apply to me?

This notice is directed to the general public and may be of specific interest to entities that conduct education and training of farmworkers (e.g., governmental and non-governmental organizations, non-profit organizations, community-based organizations, labor organizations, academic institutions, research institutions, community health centers and clinics, public health administration and environmental health administration programs, and private sector entities). Because others may also be interested in this notice, the EPA has not attempted to describe all entities that may be interested in the subject.

B. What is the Agency's authority for taking this action?

The Pesticide Registration Improvement Act of 2022 (referred to as PRIA 5), Public Law 117-328, amended the Federal Insecticide, Fungicide, and Rodenticide Act (FIFRA), 7 U.S.C. 136 et seq., to include up to $7,500,000 of set-aside funds in total for a Farmworker Training Program. Funds are for fiscal years 2023 through 2027.

Under PRIA section 703(a)(1)(G)(i), the NFTEP should provide assistance agreements to facilitate training and education for farmworkers and farmworker communities on pesticide safety, rights related to pesticide safety, and the Worker Protection Standard; to develop educational and training materials; and to develop and test innovative outreach and delivery strategies to better reach farmworkers and farmworker communities with these trainings and materials.

PRIA section 703(a)(1)(G)(iii), specifies that only community-based nonprofit farmworker organizations are eligible to receive this funding. Section 703(a)(1)(G)(ii) of PRIA 5 further states that, in order to be eligible to receive this funding, the community-based nonprofit farmworker organizations must also have experience providing training and education services for farmworkers or pesticide handlers, or experience developing informational materials for farmworkers or pesticide handlers.

C. Why is EPA taking this action?

The purpose of the RFI is to solicit additional feedback from a broad array of individuals and organizations with applicable knowledge and expertise. Additional public input, including environmental justice perspectives, will help the Agency refine the NOFOs and more effectively address the disproportionate impact of pesticide illness and injury on farmworker communities. This action satisfies PRIA section 703(a)(1)(K)(iv) which requires that EPA seek, in an open and transparent manner that does not provide a competitive advantage to any person or persons, input from persons who conduct farmworker education and training.

D. What should I consider as I prepare my comments?

1. Submitting CBI

Do not submit CBI to EPA through https://www.regulations.gov or email. If you wish to include CBI in your comment, please follow the applicable instructions at https://www.epa.gov/dockets/commenting-epa-dockets#rules and clearly mark the part or all of the information that you claim to be CBI. In addition to one complete version of the comment that includes information claimed as CBI, a copy of the comment that does not contain the information claimed as CBI must be submitted for inclusion in the public docket. Information marked as CBI will not be disclosed except in accordance with procedures set forth in 40 CFR part 2.

2. Tips for Preparing Your Comments

When preparing and submitting your comments, see Tips for Effective Comments at https://www.epa.gov/dockets/commenting-epa-dockets.

II. Background

EPA previously solicited feedback on its PRIA-funded worker protection activities, including cooperative agreements, from the Pesticide Programs Dialogue Committee (PPDC), a Federal Advisory Committee group. The PPDC's Farmworker and Clinician Workgroup met monthly for most of a year and included representatives of many different stakeholders, such as community-based farmworker nonprofit organizations, community-based organizations that serve Indian Tribes, university extension programs, industry, State regulators, farm bureaus, other federal agencies, and current EPA grantees. The workgroup formulated a series of recommendations, which the full PPDC then adopted and sent for EPA's consideration. The recommendations can be found at https://www.epa.gov/system/files/documents/2021-10/presentation-farmworker-and-clinician-training-workgroup-recommendations.pdf. These recommendations were supported by anecdotes shared by members from two additional Federal Advisory Committees, the National Environmental Justice Advisory Council (NEJAC) and the Children's Health Protection Advisory Committee (CHPAC). EPA has incorporated these recommendations into the program design elements laid out in the RFI. The RFI, which is available in the docket, seeks additional feedback to build upon those recommendations.

III. Request for Public Comment

A. What feedback does EPA hope to gain from the public comments?

In the RFI, the Agency has proposed elements of program designs and activities to be funded under the NFTEP; it has also posed a series of related questions, though commenters may address aspects of the program not discussed in the questions. Generally, EPA is interested in comments about how to meaningfully involve farmworker communities in the NFTEP assistance agreements, farmworker communities' specific language and training needs, successful outreach and delivery strategies, and priority areas for assistance agreements. For the specific elements of the proposed program designs, please consult the RFI document available in the docket. EPA's questions are as follows:

• How can EPA support meaningful, consistent involvement of farmworker communities in the design and implementation of these programs, understanding that they face many barriers to involvement?

• Are there others who could be considered part of farmworker communities who are not captured in the “Definitions” section of the RFI?

• What are the barriers to applying for and successfully managing these agreements, for the organizations described in the “Eligibility” section of the RFI?

• What specific languages (besides Spanish) should these agreements prioritize for trainings, materials development, and translations?

• How can EPA support translations that are both technically accurate and appropriate to farmworker communities' literacy levels and cultural context?

• What trainings are needed to reinforce and supplement the required annual WPS pesticide safety trainings for workers and handlers?

• What educational gaps exist for pesticide handlers (see the “Definitions” section of the RFI), specifically, who may be considered part of farmworker communities but have additional responsibilities under the WPS?

• What are examples of successful outreach strategies to ensure that farmworker communities have access to pesticide safety information and trainings?

• Should EPA select awards based in part on geographic areas and crops (use sites)?

B. What is the request for information?

In addition to soliciting comment on the questions posed in Unit III.A. of this document, EPA is seeking stakeholder input on the RFI document. EPA is interested in comments about how to meaningfully involve farmworker communities in the NFTEP assistance agreements, farmworker communities' specific language and training needs, successful outreach and delivery strategies, and priority areas for assistance agreements.

EPA encourages all potentially interested parties, including individuals, governmental and non-governmental organizations, non-profit organizations, community-based organizations, labor organizations, academic institutions, research institutions, community health centers and clinics, public health administration and environmental health administration programs, and private sector entities to comment on the RFI and to answer any of the questions posed. To the extent possible, the Agency asks commenters to please cite any public data related to or that supports the responses, and to the extent permissible, describe any supporting data that is not publicly available.

Authority: 7 U.S.C. 136 et seq.

Dated: January 19, 2024.
Michal Freedhoff,
Assistant Administrator, Office of Chemical Safety and Pollution Prevention.

[FR Doc. 2024-01457 Filed 1-24-24; 8:45 am]

BILLING CODE 6560-50-P